DEPARTMENT OF HOMELAND SECURITY

Office of the Secretary; Privacy Office

Heroes Stamp Act of 2001 Privacy Impact Assessment

AGENCY: Federal Emergency Management Agency, Emergency Preparedness and Response Directorate, Department of Homeland Security.

ACTION: Notice of availability of Privacy Impact Assessment.

SUMMARY: The Department of Homeland Security gives notice that the United States Fire Administration, located in its Directorate of Emergency Preparedness and Response/Federal Emergency Management Agency, has conducted a Privacy Impact Assessment for a program to administer awards pursuant to the 9/11 Heroes Stamp Act of 2001. The Privacy Impact Assessment is available on the Web site of the Privacy Office of the Department of Homeland Security, http://www.dhs.gov/privacy, and on the United States Fire Administration Web site, http://www.usfa.fema.gov.

FOR FURTHER INFORMATION CONTACT: Rena Y. Kim, Privacy Act Officer, Federal Emergency Management Agency, Room 840, 500 C Street, SW., Washington, DC 20472, telephone (202) 646-3949.

SUPPLEMENTARY INFORMATION: The Department of Homeland Security gives notice that the United States Fire Administration, located in its Directorate of Emergency Preparedness and Response/Federal Emergency Management Agency is establishing the 9/11 Heroes Stamp Act of 2001 Files System to support the administration of a program which provides assistance to individual emergency relief personnel killed or permanently disabled while serving in connection with the terrorist attacks of September 11, 2001. FEMA also drafted a Privacy Impact Assessment for the 9/11 Heroes Stamp Act of 2001. The Privacy Impact Assessment is available on the Web site of the Privacy Office of the Department of Homeland Security, http://www.dhs.gov/privacy, and on the United States Fire Administration Web site, http://www.usfa.fema.gov.

If you do not have access to the Internet, you may request a copy of the Privacy Act Impact Assessment for the 9/11 Heroes Stamp Act of 2001 by sending a written request to: Rena Y. Kim, Privacy Act Officer, Federal Emergency Management Agency, Room 840, 500 C Street, SW., Washington, DC 20472.

Dated: July 18, 2005.
Nuala O'Connor Kelly,
Chief Privacy Officer, Department of Homeland Security.

[FR Doc. 05-14520 Filed 7-25-05; 8:45 am]

BILLING CODE 4410-10-P